ARCTIC RESEARCH COMMISSION

Meeting

Notice is hereby given that the U.S. Arctic Research Commission will hold its 91st meeting in Cambridge, VA on November 9-11, 2009. The Business Session, open to the public, will convene at 9:30 a.m. Monday, November 9, 2009 in Cambridge, VA. An Executive Session will follow adjournment of the Business Session.

The Agenda items include:

(1) Call to order and approval of the Agenda;

(2) Approval of the Minutes of the 90th Meeting;

(3) Commissioners and Staff Reports;

(4) Discussion and presentations concerning Arctic research activities.

The focus of the meeting will be reports and updates on programs and research projects affecting the Arctic.

Any person planning to attend this meeting who requires special accessibility features and/or auxiliary aids, such as sign language interpreters, must inform the Commission in advance of those needs.

Contact Person for More Information: John Farrell, Executive Director, U.S. Arctic Research Commission, 703-525-0111 or TDD 703-306-0090.

Yours truly,
John Farrell,
Executive Director.

[FR Doc. E9-25514 Filed 10-23-09; 8:45 am]

BILLING CODE 7555-01-M